DEPARTMENT OF THE INTERIOR

Bureau of Indian Affairs

Indian Gaming

AGENCY: Bureau of Indian Affairs, Interior.

ACTION: Notice of Approved Tribal—State Class III Gaming Compact.

SUMMARY: This notice publishes an Approval of the Amended and Restated Tribal-State Government-to-Government Compact for the regulation of Class III Gaming on the Warm Springs Reservation.

EFFECTIVE DATE: June 1, 2005.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in class III gaming activities on Indian lands. This Amended and Restated Tribal-State Compact supercedes in its entirety the 1995 Tribal-State Compact as amended by Amendments I through XI, for the regulation of gaming at the Ka-Nee-Ta gaming facility on the Warm Springs Reservation. The Associate Deputy Secretary, Department of the Interior, through his delegated authority, is publishing notice that the Amended and Restated Tribal-State Government-to-Government Compact for the Regulation of Class III Gaming on the Warm Springs Reservation is in effect.

Dated: May 20, 2005.
James E. Cason,
Associate Deputy Secretary.

[FR Doc. 05-10878 Filed 5-31-05; 8:45 am]

BILLING CODE 4310-4N-P